DEPARTMENT OF TRANSPORTATION

Federal Railroad Administration

[Docket Number FRA-2014-0017]

Petition for Waiver of Compliance

In accordance with part 211 of Title 49 Code of Federal Regulations (CFR), this document provides the public notice that by a document dated January 22, 2014, Caltrain Commuter Railroad Company (PCMZ) has petitioned the Federal Railroad Administration (FRA) for a waiver of compliance from certain provisions of the Federal railroad safety regulations contained at 49 CFR part 236, Rules, Standards, and Instructions Governing the Installation Inspection and Maintenance, and Repair of Signal and Train Control Systems, Devices, and Appliances. FRA assigned the petition Docket Number FRA-2014-0017. PCMZ seeks relief from the 2-year periodic testing requirements of 49 CFR part 236, Sections 236.377—Approach locking; 236.378—Time locking; 236.379—Route locking; 236.380—Indication locking; and 236.381—Traffic locking; on vital microprocessor-based systems. PCMZ proposes to verify and test signal locking systems controlled by microprocessor-based equipment using alternative procedures every 4 years after the initial baseline testing or a program change as follows:

• Verify the cyclic redundancy check, checksum, and universal control number of the existing location's specific application logic to the previously tested version.

• Test the appropriate interconnection to the associated signaling hardware equipment outside the processor (switch, track, and searchlight signal indications, and approach locking (if external)) verifying that the correct and intended inputs to and outputs from the processor are maintained.

PCMZ submitted their petition with a list of 30 signal locations subject to the relief being requested.

A copy of the petition, as well as any written communications concerning the petition, is available for review online at http://www.regulations.gov/ and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02870 Filed 2-10-14; 8:45 am]

BILLING CODE 4910-06-P